DEPARTMENT OF COMMERCE

Submission for OMB Review; Comment Request

The Department of Commerce (DOC) has submitted to the Office of Management and Budget (OMB) for clearance the following proposal for collection of information under the provisions of the Paperwork Reduction Act of 1995, Public Law 104-13.

Bureau: International Trade Administration.

Title: Survey of ITA Client Companies.

Agency Form Number: None.

OMB Number: None.

Type of Request: Emergency.

Burden Hours: 100.

Number of Respondents: 2,000.

Average Hours Per Response: 30 minutes.

Needs and Uses: The Department of Commerce's International Trade Administration (ITA) provides export promotion products to help U.S. firms operate in global markets. ITA's target audience for this assistance is the small to medium size firms. The Office of Management and Budget (OMB) has recently instructed the ITA in budget passback language to conduct a study of the elasticity of the costs for these products. The “Survey of ITA Client Companies,” collection of information will be used to: (1) Identify and gather pricing and cost data on ITA products and services; (2) gather information on fee structure, cost and key characteristics of customers; and (3) develop recommendations on pricing strategies.

Affected Public: Business or other for profit organizations, not-for-profit institutions.

Frequency: Once.

Respondent's Obligation: Voluntary.

OMB Desk Officer: David Rostker, (202) 395-3897.

Copies of the above information collection can be obtained by calling or writing Madeleine Clayton, Departmental Paperwork Clearance Officer, (202) 482-3129, Department of Commerce, Room 6608, 14th & Constitution Avenue, NW., Washington, DC 20230 or via the Internet at MClayton@doc.gov.

Written comments and recommendations for the proposed information collection should be sent to David Rostker, OMB Desk Officer, Room 10202, New Executive Office Building, Washington, DC 20503 within 30 days of the publication of this notice in the Federal Register.

Dated: May 29, 2002.
Gwellnar Banks,
Management Analyst, Office of the Chief Information Officer.

[FR Doc. 02-13876 Filed 6-3-02; 8:45 am]

BILLING CODE 3510-25-P